DEPARTMENT OF TRANSPORTATION

Pipeline and Hazardous Materials Safety Administration

International Standards on the Transport of Dangerous Goods; Public Meeting

AGENCY: Pipeline and Hazardous Materials Safety Administration (PHMSA), Department of Transportation.

ACTION: Notice of public meeting.

SUMMARY: This notice is to advise interested persons that PHMSA will conduct a public meeting in preparation for the 30th session of the United Nation's Sub-Committee of Experts on the Transport of Dangerous Goods (UNSCOE) to be held 4-12 (a.m.) December 2006 in Geneva, Switzerland.

DATES: Wednesday, November 29, 2006; 9:30 a.m.—3:30 p.m.

ADDRESSES: The meeting will be held at DOT Headquarters, Nassif Building, Room 8418, 400 Seventh Street SW., Washington, DC 20590.

FOR FURTHER INFORMATION CONTACT: Mr. Duane Pfund, Director, Office of International Standards, Office of Hazardous Materials Safety, Department of Transportation, Washington, DC 20590; (202) 366-0656.

SUPPLEMENTARY INFORMATION: The primary purpose of this meeting will be to prepare for the 30th session of the UNSCOE and to discuss draft U.S. positions on UNSCOE proposals. The 30th session of the UNSCOE is the final meeting in the current biennium cycle. The UNSCOE will consider proposals for the 15th Revised Edition of the United Nations Recommendations on the Transport of Dangerous Goods Model Regulations which will come into force in the international regulations from January 1, 2009. Topics to be covered during the public meeting include:

Transport of dangerous goods in excepted quantities, testing of intermediate bulk containers, transport of infectious substances, transport of chlorosilanes, provisions for fireworks, portable tank instructions for toxic by inhalation liquids, transport of compressed gases, requirements for fuel cell cartridges, harmonization with the IAEA Regulations for the safe transport of radioactive materials, guiding principles for the development of the Model Regulations, and various miscellaneous proposals related to listing, classifications, and hazard communication. In addition, we are soliciting comments on possible work items for inclusion in the UNSCOE's program of work for the upcoming 2007-2008 biennium.

Immediately following the portion of the public meeting designated for discussion on the 30th session of the UNSCOE, PHMSA will hold a discussion relative to the safe transport of lithium batteries. This discussion will feature an update from the Consumer Product Safety Commission on the status of lithium battery recalls, discussion of UN proposals relative to lithium batteries, industry best practice experience, and a structured discussion on developing a collaborative roadmap addressing regulatory, best practice and outreach initiatives to enhance lithium battery transport safety.

The public is invited to attend without prior notification. Due to the heightened security measures participants are encouraged to arrive early to allow time for security checks necessary to obtain access to the building. In lieu of conducting a public meeting after the 30th session of the UNSCOE to present the results of the session, PHMSA will place a copy of the Sub-Committee's report and an updated copy of the pre-meeting summary document on PHMSA's Hazardous Materials Safety Homepage at http://hazmat.dot.gov/regs/intl/intstandards.htm.

Documents

Copies of documents for the UNSCOE meeting and the meeting agenda may be obtained by downloading them from the United Nations Transport Division's Web site at: http://www.unece.org/trans/main/dgdb/dgsubc/c32006.html. This site may also be accessed through PHMSA's Hazardous Materials Safety Homepage at http://hazmat.dot.gov/regs/intl/intstandards.htm. PHMSA's site provides additional information regarding the UNSCOE and related matters such as a summary of decisions taken at previous sessions of the UNSCOE.

Robert A. McGuire,
Associate Administrator for Hazardous Materials Safety.

[FR Doc. 06-9324 Filed 11-21-06; 8:45 am]

BILLING CODE 4910-60-M